DEPARTMENT OF DEFENSE

Department of the Army

32 CFR Part 637

[Docket ID: USA-2018-HQ-0023]

RIN 0702-AB01

Military Police Investigation

AGENCY: Department of the Army, DoD.

ACTION: Final rule.

SUMMARY: This final rule removes DoD's regulation concerning the management of the misdemeanor criminal investigation program by Department of the Army personnel. This part conveys internal Army policy and procedures, and is unnecessary.

DATES: This rule is effective on October 2, 2019.

FOR FURTHER INFORMATION CONTACT: Jeffrey Pearce at 703-695-8499.

SUPPLEMENTARY INFORMATION: It has been determined that publication of this CFR part removal for public comment is impracticable, unnecessary, and contrary to public interest since it is based on removing DoD internal policies and procedures that are publicly available on the Department's website.

DoD internal guidance will continue to be published in Army Regulation 190-30, “Military Police Investigation,” available at https://armypubs.army.mil/ProductMaps/PubForm/AR.aspx.

This rule is not significant under Executive Order (E.O.) 12866, “Regulatory Planning and Review,” therefore, E.O. 13771, “Reducing Regulation and Controlling Regulatory Costs” does not apply.

List of Subjects in 32 CFR Part 637

Crime, Investigations, Law enforcement, Law enforcement officers, Military law, Search warrants.

PART 637—[REMOVED]

Accordingly, by the authority of 5 U.S.C. 301, 32 CFR part 637 is removed.

Brenda S. Bowen,
Army Federal Register Liaison Officer.

[FR Doc. 2019-21183 Filed 10-1-19; 8:45 am]

BILLING CODE 5001-03-P